DEPARTMENT OF COMMERCE

Bureau of Industry and Security

[Docket No. 250915-0134]

XRIN 0694-XC139

Notice of the Opening of the Inclusions Window for the Section 232 Steel and Aluminum Tariff Inclusions Process

AGENCY: Bureau of Industry and Security, Office of Strategic Industries and Economic Security, U.S. Department of Commerce.

ACTION: Notice of the opening of the inclusions window for the steel and aluminum tariff inclusions process.

SUMMARY: The Bureau of Industry and Security (BIS) has established a process for including additional derivative steel and aluminum articles within the scope of the duties authorized by the President under section 232 of the Trade Expansion Act of 1962. This notice opens the September 2025 inclusions window for submissions.

DATES: The inclusions window is opened on September 15, 2025, and closes at 11:59 p.m. ET on September 29, 2025.

ADDRESSES: Only submissions for inclusions requests are being accepted and must be emailed to the Defense Industrial Base Programs inbox at DIBPrograms@bis.doc.gov.

FOR FURTHER INFORMATION CONTACT: For questions regarding this notice or the inclusions process overall, contact Stephen Astle at 202-482-4506, or email Steel232@bis.doc.gov regarding steel inclusion requests or Aluminum232@bis.doc.gov regarding aluminum inclusion requests.

SUPPLEMENTARY INFORMATION: On February 10, 2025, the President issued Proclamations 10895, “Adjusting Imports of Aluminum into The United States” (Aluminum Proclamation), and 10896, “Adjusting Imports of Steel into the United States” (Steel Proclamation). These proclamations imposed specified rates of duty on imports of aluminum and steel articles and certain derivative steel and aluminum articles, respectively (collectively, the Inclusions Proclamations).

The Inclusions Proclamations also required the Secretary of Commerce to establish a process for including additional derivative aluminum and steel articles within the scope of the duties. In an interim final rule (IFR) published on May 2, 2025 (90 FR 18780), BIS amended supplement no. 1 to Part 705 of Title 15 of the Code of Federal Regulations and established a process for including additional derivative aluminum and steel articles within the scope of the duties authorized by the President under section 232 of the Trade Expansion Act of 1962, as amended (Section 232). This IFR established recurring two-week windows each year for submissions for derivative products in May, September, and January.

This notice announces the opening of the September 2025 inclusions window for submissions for derivative aluminum and steel articles for two weeks starting on September 15, 2025, and closing at 11:59 p.m. ET on September 29, 2025. Requests must be submitted to the Defense Industrial Base Programs inbox at DIBPrograms@bis.doc.gov. Following the close of the submission window, accepted inclusion requests will be posted for a two-week public comment period on Docket ID BIS-2025-0023 on Regulations.gov. See the prior published IFR for details on the inclusions submission process.

Robby S. Saunders,
Deputy Assistant Secretary for Technology Security.

[FR Doc. 2025-18008 Filed 9-15-25; 4:15 pm]

BILLING CODE 3510-33-P